DEPARTMENT OF AGRICULTURE

Forest Service

Lower Trinity Ranger District, Six Rivers National Forest, California, SPI Road Project

AGENCY: Forest Service, USDA.

ACTION: Notice of intent to prepare an environmental impact statement.

SUMMARY: The USDA Forest Service will prepare an environmental impact statement to disclose the environmental effects from construction of an access road approximately 4,800 feet long to Sierra Pacific industrial private lands surrounded by Forest Service Lands.

DATES: Comments concerning the scope of the analysis must be received by thirty days of the publication of this notice in the Federal Register. The draft environmental impact statement is expected by February 2006 and the final environmental impact statement is expected by May 2006.

ADDRESSES: Send written comments concerning this notice to Jeff Walter, Forest Supervisor, Six Rivers National Forest, 1330 Bayshore Way, Eureka, CA 95501-3834. Comments may be (1) mailed to the Responsible Official; (2) hand delivered between the hours of 8 a.m.-4:30 p.m. Monday through Friday excluding holidays; (3) faxed to (707) 442-9242; or (4) electronically mailed to: comments-pacificsouthwest-six-rivers@fs.fed.us. Comments submitted electronically must be in Rich Text Format (.rtf).

FOR FURTHER INFORMATION CONTACT: Katherine Worn, Project Leader, Lower Trinity Ranger District, P.O. Box 68, Willow Creek, CA 95573 or call (530) 629-2118.

SUPPLEMENTARY INFORMATION: The project area is located in the South Fork Watershed entirely within Trinity County, within the General Forest Management Area and Riparian Reserves, in T4N, R6E, section 10, HM.

Purpose and Need for Action

There is a need for action on a special use permit application submitted by Sierra Pacific Industries property to allow construction of a road across national forest lands to provide access to their property. The purpose to provide access to Sierra Pacific Industries is to comply with the provisions of the 1989 Alaskan National Interest Lands Conservation Act, section 1323, and the Forest Service regulation for evaluating and granting access to private lands within the national forest system at 36 CFR 251.110 to 251.114.

The 1989 Alaskan National Interest Lands Conservation Act, section 1323, states:

“(a) Notwithstanding any other provision of law, and subject to such terms and provisions of law, and subject to such terms and conditions as the Secretary of Agriculture may prescribe, the Secretary shall provide such access to nonfederally owned land within the boundaries of the National Forest System as the Secretary deems adequate to secure to the owner the reasonable use and enjoyment thereof; Provided, That such owner comply with rules and regulations applicable to ingress and egress to or from the National Forest System.”

In 36 CFR 251.111 it defines adequate access, and in 36 CFR 251.114 it describes the criteria, terms, and conditions of its granting: “* * * (2) the route is so located and constructed as to minimize adverse impacts on soils, fish and wildlife, scenic, cultural, threatened and endangered species, and other values of the Federal Lands; * * *”

There is also a purpose and need to comply with Six Rivers Land and Resource Management Plan standards and guidelines with respect to riparian reserves, late successional reserves, and heritage and cultural resources.

Proposed Action

The Six Rivers National Forest is proposing to authorize a special use permit to Sierra Pacific Industries (SPI) to construct, use and maintain 4,811 feet of access road, during the dry season, across National Forest System lands in the W½ Section 10, T4N, R6E, HM. The road is needed for SPI to access their property located in the SW¼ of Section 9, T4N, R6E, HM, in the upper Underwood Creek drainage, since it is surrounded by Forest Service lands.

Amend the Land and Resource Management Plan (LRMP)

This proposal includes a site-specific forest plan amendment. It amends the LRMP standard and guide 9-8 in Chapter IV on page 111, which states: “Inside roadless areas—No new roads will be built in remaining unroaded portions of inventoried (RARE II) roadless areas that still qualify as ‘roadless.’ ” Therefore this standard and guide would not apply to this project.

Possible Alternatives

Currently the Six Rivers is anticipating analyzing in detail four alternatives, the no action, proposed action, a helicopter only alternative, and a temporary road alternative.

Responsible Official

Jeff Walter, Forest Supervisor, 1330 Bayshore Way, Eureka, CA 95501-3834, is the Responsible Official.

Nature of Decision To Be Made

The Forest Service must decide whether it will implement this proposal, an alternative design that moves the area towards the desired condition, or not to implement any project at this time.

Scoping Process

In the 2nd and 3rd Quarters of 2003, the 3rd Quarter of 2005, and the 1st quarter of 2006, the Sierra Pacific Industries (SPI) Road Project was included in the Six Rivers National Forest Schedule of Proposed Action, which was posted on the Six Rivers National Forest's internet Web site and mailed to interested parties. The proposal was to build 4,811 feet of road. On October 18, 2004 a scoping letter was mailed to interested and affected tribes, individuals, organizations, and Federal, State and local agencies with responsibilities for local resource management. After evaluating responses to the November 2004 scoping period, the Forest Service has decided to prepare an environmental impact statement (EIS) for this project. This notice of intent invites additional public comment on this proposal and initiates the preparation of the environmental impact statement. The proposal has not been changed, except for the amendment to the LRMP, since scoping in November of 2004. Comments submitted at that time will be used in the environmental analysis process. Due to the extensive scoping efforts already conducted, no scoping meeting is planned.

The scoping process will include identification of potential issues, in depth analysis of significant issues, development of alternatives to the proposed action, and determination of potential environmental effects of the proposal and alternatives. While public participation in this analysis is welcome at any time, comments received within 30 days of the publication of this notice will be especially useful in the preparation of the draft environmental impact statement. The public is encouraged to take part in the planning process and to visit with Forest Service officials at any time during the analysis and prior to the decision.

Preliminary Issues

The following preliminary issues have been identified for this proposal: Construction of roads in the Underwood Inventoried Roadless Area, impacts to water quality from construction activities associated with the project, potential spreading of noxious weed species known to occur in the area because of the projects ground disturbing activities, and use of alternatives to ground based systems.

Comment Requested

This notice of intent initiates the scoping process which guides the development of the environmental impact statement. Comments submitted during the November 2004 scoping period will be used in the environmental analysis process. Those who submitted comments at that time do not need to comment again, unless they have new comments they would like to provide. The public is encouraged to take part in the process and is encouraged to visit with Forest Service officials at any time during the analysis and prior to the decision. The Forest Service will be seeking information, comments, and assistance from Federal, State, and local agencies and other individuals or organizations that may be interested in, or affected by, the proposed vegetation management activities.

Early Notice of Importance of Public Participation in Subsequent Environmental Review: A draft environmental impact statement will be prepared for comment. The comment period on the draft environmental impact statement will be forty-five days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the forty-five day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 29, 2005.
Jeff Walter,
Forest Supervisor.

[FR Doc. 05-23603 Filed 12-2-05; 8:45 am]

BILLING CODE 3410-11-P